DEPARTMENT OF ENERGY

Federal Energy Regulatory Commission

Combined Notice of Filings

Take notice that the Commission has received the following Natural Gas Pipeline Rate and Refund Report filings:

Filings Instituting Proceedings

Docket Numbers: PR24-67-000.

Applicants: NET Mexico Pipeline Partners, LLC.

Description: 284.123 Rate Filing: Audit Compliance to be effective 5/1/2024.

Filed Date: 4/30/24.

Accession Number: 20240430-5261.

Comment Date: 5 p.m. ET 5/21/24.

Docket Numbers: RP24-717-000.

Applicants: Rover Pipeline LLC.

Description: 4(d) Rate Filing: Amended Non-Conforming Agreement—Ascent to be effective 5/1/2024.

Filed Date: 4/30/24.

Accession Number: 20240430-5193.

Comment Date: 5 p.m. ET 5/13/24.

Docket Numbers: RP24-718-000.

Applicants: Transcontinental Gas Pipe Line Company, LLC.

Description: 4(d) Rate Filing: LSS and SS-2 Tracker Filing effective May 1, 2024 to be effective 5/1/2024.

Filed Date: 4/30/24.

Accession Number: 20240430-5202.

Comment Date: 5 p.m. ET 5/13/24.

Docket Numbers: RP24-719-000.

Applicants: Tennessee Gas Pipeline Company, L.L.C.

Description: 4(d) Rate Filing: Negotiated Rate Agreement Filing Various Effective May 1, 2024 to be effective 5/1/2024.

Filed Date: 4/30/24.

Accession Number: 20240430-5246.

Comment Date: 5 p.m. ET 5/13/24.

Docket Numbers: RP24-720-000.

Applicants: Northern Natural Gas Company.

Description: 4(d) Rate Filing: 20240430 Negotiated Rate to be effective 5/1/2024.

Filed Date: 4/30/24.

Accession Number: 20240430-5260.

Comment Date: 5 p.m. ET 5/13/24.

Docket Numbers: RP24-721-000.

Applicants: Ruby Pipeline, L.L.C.

Description: 4(d) Rate Filing: RP 2024-04-30 FL&U and EPC Rate Adjustment to be effective 6/1/2024.

Filed Date: 4/30/24.

Accession Number: 20240430-5269.

Comment Date: 5 p.m. ET 5/13/24.

Docket Numbers: RP24-722-000.

Applicants: Sierrita Gas Pipeline LLC.

Description: 4(d) Rate Filing: 2024 Apr Quarterly FL&U Filing to be effective 6/1/2024.

Filed Date: 4/30/24.

Accession Number: 20240430-5272.

Comment Date: 5 p.m. ET 5/13/24.

Docket Numbers: RP24-723-000.

Applicants: Cove Point LNG, LP.

Description: 4(d) Rate Filing: Cove Point—LTD-1 Abandonment Implementation (CP23-539) to be effective 5/1/2024.

Filed Date: 4/30/24.

Accession Number: 20240430-5284.

Comment Date: 5 p.m. ET 5/13/24.

Docket Numbers: RP24-724-000.

Applicants: Cheyenne Plains Gas Pipeline Company, L.L.C.

Description: 4(d) Rate Filing: Fuel and LU Annual Update and OPS Report 2024 to be effective 6/1/2024.

Filed Date: 4/30/24.

Accession Number: 20240430-5325.

Comment Date: 5 p.m. ET 5/13/24.

Docket Numbers: RP24-725-000.

Applicants: Alliance Pipeline L.P.

Description: Annual Report of Operational Purchases and Sales of Alliance Pipeline L.P.

Filed Date: 4/30/24.

Accession Number: 20240430-5335.

Comment Date: 5 p.m. ET 5/13/24.

Docket Numbers: RP24-726-000.

Applicants: Wyoming Interstate Company, L.L.C.

Description: 4(d) Rate Filing: Fuel_LU Quarterly Update Filing Eff June 2024 to be effective 6/1/2024.

Filed Date: 4/30/24.

Accession Number: 20240430-5344.

Comment Date: 5 p.m. ET 5/13/24.

Docket Numbers: RP24-727-000.

Applicants: Double E Pipeline, LLC.

Description: 4(d) Rate Filing: Negotiated Rate & Non-Conforming Agreement- MRC Permian Company to be effective 5/1/2024.

Filed Date: 4/30/24.

Accession Number: 20240430-5374.

Comment Date: 5 p.m. ET 5/13/24.

Docket Numbers: RP24-728-000.

Applicants: Transcontinental Gas Pipe Line Company, LLC.

Description: 4(d) Rate Filing: GT&C Section 49—Open Season Postings for Future (91Day-3Yr) Capacity to be effective 6/1/2024.

Filed Date: 5/1/24.

Accession Number: 20240501-5003.

Comment Date: 5 pm ET 5/13/24.

Docket Numbers: RP24-729-000.

Applicants: Northern Natural Gas Company.

Description: 4(d) Rate Filing: 20240501 Winter PRA to be effective 11/1/2024.

Filed Date: 5/1/24.

Accession Number: 20240501-5084.

Comment Date: 5 p.m. ET 5/13/24.

Docket Numbers: RP24-730-000.

Applicants: Texas Eastern Transmission, LP.

Description: 4(d) Rate Filing: Negotiated Rates—Various Releases eff 5-1-24 to be effective 5/1/2024.

Filed Date: 5/1/24.

Accession Number: 20240501-5115.

Comment Date: 5 p.m. ET 5/13/24.

Docket Numbers: RP24-731-000.

Applicants: Southeast Supply Header, LLC.

Description: 4(d) Rate Filing: 2024 SESH TUP/SBA Annual Filing to be effective 6/1/2024.

Filed Date: 5/1/24.

Accession Number: 20240501-5118.

Comment Date: 5 p.m. ET 5/13/24.

Docket Numbers: RP24-732-000.

Applicants: Alliance Pipeline L.P.

Description: 4(d) Rate Filing: Negotiated Rates—Various May 1 2024 Releases to be effective 5/1/2024.

Filed Date: 5/1/24.

Accession Number: 20240501-5120.

Comment Date: 5 p.m. ET 5/13/24.

Docket Numbers: RP24-733-000.

Applicants: Gulf South Pipeline Company, LLC.

Description: 4(d) Rate Filing: Cap Rel Neg Rate Agmts (Santa Rosa 42487 to Southern Company Services 58164) to be effective 5/1/2024.

Filed Date: 5/1/24.

Accession Number: 20240501-5129.

Comment Date: 5 p.m. ET 5/13/24.

Docket Numbers: RP24-734-000.

Applicants: Maritimes & Northeast Pipeline, L.L.C.

Description: 4(d) Rate Filing: Negotiated Rates—Northern to NRG Business 3093 eff 5-1-24 to be effective 5/1/2024.

Filed Date: 5/1/24.

Accession Number: 20240501-5131.

Comment Date: 5 p.m. ET 5/13/24.

Docket Numbers: RP24-735-000.

Applicants: NEXUS Gas Transmission, LLC.

Description: 4(d) Rate Filing: Negotiated Rates—Various Releases eff 5-1-2024 to be effective 5/1/2024.

Filed Date: 5/1/24.

Accession Number: 20240501-5139.

Comment Date: 5 p.m. ET 5/13/24.

Docket Numbers: RP24-736-000.

Applicants: Northern Border Pipeline Company.

Description: 4(d) Rate Filing: Administrative Clean Up to be effective 6/1/2024.

Filed Date: 5/1/24.

Accession Number: 20240501-5152.

Comment Date: 5 p.m. ET 5/13/24.

Docket Numbers: RP24-737-000.

Applicants: Equitrans, L.P.

Description: 4(d) Rate Filing: Negotiated Rate Capacity Release Agreements 05012024 to be effective 5/1/2024.

Filed Date: 5/1/24.

Accession Number: 20240501-5175.

Comment Date: 5 p.m. ET 5/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 1, 2024.
Debbie-Anne A. Reese,
Acting Secretary.

[FR Doc. 2024-09982 Filed 5-7-24; 8:45 am]

BILLING CODE 6717-01-P